FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: State Administrative Plan for the Hazard Mitigation Grant Program.

Type of Information Collection: Reinstatement, with change of a previously approved collection for which approval has expired.

OMB Number: 3067-0208.

Abstract: States must develop a plan for the administration of the hazard mitigation grants made by FEMA under the provision of Section 404 of the Robert T. Stafford Disaster Relief Act. The plan is needed to be eligible to receive funds under the Hazard Mitigation Grant Program, following a Presidentially declared disaster or emergency.

Affected Public: State, Local or Tribal Government.

Number of Respondents: 16.

Estimated Time per Respondent: 8 hours.

Estimated Total Annual Burden Hours: 205.

Frequency of Response: On occasion.

COMMENTS: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Branch, Program Services Division, Operations Support Directorate, Federal Emergency Management Agency, 500 C Street, SW, Room 316, Washington, DC 20472, telephone number (202) 646-2625, FAX number (202) 646-3524, or e-mail address: muriel.anderson@fema.gov.

Dated: August 10, 2000.
Reginald Trujillo,
Director, Program Services Division, Operations Support Directorate.

[FR Doc. 00-21177 Filed 8-18-00; 8:45 am]

BILLING CODE 6718-01-P